DEPARTMENT OF TRANSPORTATION

Federal Aviation Administration

14 CFR Part 39

[Docket No. 2004-NM-03-AD; Amendment 39-13514; AD 2004-05-19]

RIN 2120-AA64

Airworthiness Directives; Boeing Model 737-600, -700, -700C, -800, and -900 Series Airplanes

AGENCY: Federal Aviation Administration, DOT.

ACTION: Final rule; correction.

SUMMARY: This document corrects an error that appeared in airworthiness directive (AD) 2004-05-19 that was published in the Federal Register on March 9, 2004 (69 FR 10921). The error resulted in the omission of the phrase “whichever occurs first” in a certain grace period for the initial compliance time. This AD is applicable to all Boeing Model 737-600, -700, -700C, -800, and -900 series airplanes. This AD requires an inspection of the rear spar attach pins and front spar attach bolts that attach the horizontal stabilizers to the horizontal stabilizer center section for damage; and follow-on or corrective actions, as applicable.

DATES: Effective March 24, 2004.

FOR FURTHER INFORMATION CONTACT: Nancy Marsh, Aerospace Engineer, Airframe Branch, ANM-120S, FAA, Seattle Aircraft Certification Office, 1601 Lind Avenue, SW., Renton, Washington 98055-4056; telephone (425) 917-6440; fax (425) 917-6590.

SUPPLEMENTARY INFORMATION: Airworthiness Directive (AD) 2004-05-19, amendment 39-13514, applicable to all Boeing Model 737-600, -700, -700C, -800, and -900 series airplanes, was published in the Federal Register on March 9, 2004 (69 FR 10921). That AD requires an inspection of the rear spar attach pins and front spar attach bolts that attach the horizontal stabilizers to the horizontal stabilizer center section for damage; and follow-on or corrective actions, as applicable.

As published, in the second row of the “Grace Period” column of Table 1 of AD 2004-05-19, the phrase “whichever occurs first” was inadvertently omitted. The correct grace period should have read, “For airplanes on which Boeing Service Bulletin 737-55-1074, dated August 15, 2002, has been done as of the effective date of this AD: Within 24 months or 6,000 flight cycles since accomplishment of the service bulletin, whichever occurs first.”

Since no other part of the regulatory information has been changed, the final rule is not being republished in the Federal Register.

The effective date of this AD remains March 24, 2004.

§ 39.13 [Corrected]

On page 10922, in the third column, and on page 10933, in the first column, Table 1 of paragraph (a) of AD 2004-05-19 is corrected to read as follows:

* * * * *

(a) * * *

Table 1.—Initial Compliance Time
Threshold | Grace period
Prior to the accumulation of 15,000 total flight cycles or 60 months since the date of issuance of the original Airworthiness Certificate or the date of issuance of the Export Certificate of Airworthiness, whichever occurs first | For airplanes on which Boeing Service Bulletin 737-55-1074, dated August 15, 2002, has not been done as of the effective date of this AD: Within 90 days after the effective date of this AD.
| For airplanes on which Boeing Service Bulletin 737-55-1074, dated August 15, 2002, has been done as of the effective date of this AD: Within 24 months or 6,000 flight cycles since accomplishment of the service bulletin, whichever occurs first.

* * * * *

Issued in Renton, Washington, on April 6, 2004.
Kevin M. Mullin,
Acting Manager, Transport Airplane Directorate, Aircraft Certification Service.

[FR Doc. 04-8297 Filed 4-12-04; 8:45 am]

BILLING CODE 4910-13-P